COMMODITY FUTURES TRADING COMMISSION

Agricultural Advisory Committee; Meeting

AGENCY: Commodity Futures Trading Commission (“CFTC”).

ACTION: Notice of Meeting of Agricultural Advisory Committee.

SUMMARY: The CFTC's Agricultural Advisory Committee will hold a public meeting on May 19, 2011, from 9 a.m. to 1 p.m., at the Commission's Washington, DC, headquarters. At the meeting the committee will discuss issues related to the Dodd-Frank Act. Members of the public may file written statements with the committee.

DATES: The meeting will be held on May 19, 2011 from 9 a.m. to 1 p.m.

ADDRESSES: The meeting will take place in the first floor Conference Center at the Commission's headquarters, Three Lafayette Centre, 1155 21st Street, NW., Washington, DC 20581. Written statements should be sent to the attention of Agricultural Advisory Committee, c/o Chairman Michael V. Dunn, Commodity Futures Trading Commission, Three Lafayette Centre, 1155 21st Street, NW., Washington, DC 20581.

FOR FURTHER INFORMATION CONTACT: Nicole McNair at (202) 418-5070.

SUPPLEMENTARY INFORMATION: The meeting is open to the public. The meeting will be webcast on the Commission's Web site, http://www.cftc.gov. Members of the public also can listen to the meeting by telephone. The public access call-in numbers will be announced at a later date.

Authority: 5 U.S.C. app. 2 § 10(a)(2).

Dated: April 29, 2011.
By the Commission.
David A. Stawick,
Secretary of the Commission.

[FR Doc. 2011-10961 Filed 5-3-11; 8:45 am]

BILLING CODE 6351-01-P